DEPARTMENT OF HEALTH AND HUMAN SERVICES

National Institutes of Health

National Institute of Nursing Research; Notice of Meeting

Pursuant to section 1009 of the Federal Advisory Committee Act, as amended, notice is hereby given of a meeting of the National Advisory Council for Nursing Research.

The meeting will be open to the public as indicated below, with attendance limited to space available. Individuals who plan to attend and need special assistance, such as sign language interpretation or other reasonable accommodations, should notify the Contact Person listed below in advance of the meeting. The meeting can be accessed from the NIH Videocast at the following link: https://videocast.nih.gov/.

The meeting will be closed to the public in accordance with the provisions set forth in sections 552b(c)(4) and 552b(c)(6), title 5 U.S.C., as amended. The intramural programs and projects as well as the grant applications and/or contract proposals and the discussions could disclose confidential trade secrets or commercial property such as patentable material, and personal information concerning individuals associated with the grant applications and/or contract proposals, the disclosure of which would constitute a clearly unwarranted invasion of personal privacy.

Name of Committee: The National Advisory Council for Nursing Research (NACNR).

Date: April 23, 2025.

Open: 11:00 a.m.-12:15 p.m.

Agenda: Call to Order and Opening Remarks, Council Open Discussion.

Meeting Format: Virtual Meeting.

Address: National Institutes of Health, Building 31, Room 6C, 31 Center Street, Bethesda, MD 20892.

Closed: 12:15 p.m.-12:30 p.m.

Agenda: To review and evaluate grant applications and/or proposals.

Contact Person: Elizabeth Tarlov, Ph.D., RN Director, Division of Extramural Science Programs (DESP), National Institute of Nursing Research, 31 Center Drive, Bethesda, MD 20892, (301) 594-1580, email: elizabeth.tarlov@nih.gov.

Any member of the public interested in presenting oral comments to the committee may notify the Contact Person listed on this notice at least 10 days in advance of the meeting. Interested individuals and representatives of an organization may submit a letter of intent, a brief description of the organization represented and a short description of the oral presentation. Only one representative of an organization may be allowed to present oral comments and presentations may be limited to five minutes. Both printed and electronic copies are requested for the record. In addition, any interested person may file written comments with the committee by forwarding the statement to the Contact Person listed on this notice. The statement should include the name, address, telephone number and when applicable, the business or professional affiliation of the interested person.

Information is also available on the Institute's/Center's home page: https://www.ninr.nih.gov/aboutninr/nacnr, where an agenda and any additional information for the meeting will be posted when available.

(Catalogue of Federal Domestic Assistance Program Nos. 93.361, Nursing Research, National Institutes of Health, HHS)

Dated: March 26, 2025.
Bruce A. George,
Program Analyst, Office of Federal Advisory Committee Policy.

[FR Doc. 2025-05508 Filed 3-28-25; 8:45 am]

BILLING CODE 4140-01-P